FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Ann E. Misback, Secretary of the Board, 20th Street and Constitution Avenue NW, Washington, DC 20551-0001, not later than August 21, 2025.

A. Federal Reserve Bank of St. Louis (Holly A. Rieser, Senior Manager) P.O. Box 442, St. Louis, Missouri 63166-2034. Comments can also be sent electronically to Comments.applications@stls.frb.org:

1. The Anna M. Berryhill Irrevocable Trust No. 1 FBO Robert W. McDonald III, The Anna M. Berryhill Irrevocable Trust No. 1 FBO Jon S. McDonald, and The Anna M. Berryhill Irrevocable Trust No. 1 FBO Mary Elese McDonald, all of Austin, Texas, Robert W. McDonald III, Austin, Texas, and Jon S. McDonald, Lakeway, Texas, as co-trustees of all three aforementioned trusts; Robert W. McDonald III, individually and as owner of the 2010 MFI, LLC, and McDonald Family Investment Limited, all of Austin, Texas; Jon S. McDonald, Lakeway, Texas, individually and as trustee of the McDonald Family Trust and the BAM Trust, both of Austin, Texas, and owner of APEX Clearing, Dallas, Texas; and Robin McDonald and Emily McDonald, both of Lakeway, Texas; as the McDonald Family Control Group, a group acting in concert, to retain voting shares of Pontotoc Bancshares Corp., and thereby indirectly retain voting shares of First Choice Bank, both of Pontotoc, Mississippi.

Board of Governors of the Federal Reserve System.
Benjamin W. McDonough,
Deputy Secretary of the Board.

[FR Doc. 2025-14922 Filed 8-5-25; 8:45 am]

BILLING CODE 6210-01-P